DEPARTMENT OF THE INTERIOR

Bureau of Land Management

[LLUTY01000.L14300000. FR0000.241A.00; UTU-87630]

Notice of Realty Action; Recreation and Public Purposes Act Classification for Conveyance of Public Lands in Grand County, UT

AGENCY: Bureau of Land Management, Interior.

ACTION: Notice of Realty Action.

SUMMARY: The Bureau of Land Management (BLM) has examined and found suitable for classification for conveyance to Grand County under the provisions of the Recreation and Public Purposes (R&PP) Act, as amended, a parcel of public land in Grand County, Utah. Grand County proposes to establish a public shooting range facilities complex.

DATES: Interested parties may submit written comments regarding this classification for conveyance of public land until June 28, 2010.

ADDRESSES: Comments may be submitted to the Bureau of Land Management, Moab Field Office, 82 East Dogwood Avenue, Moab, Utah, 84532.

FOR FURTHER INFORMATION CONTACT: Jan Denney, BLM, Moab Field Office, at 435-259-2122 or by e-mail at Jan_Denney@blm.gov.

SUPPLEMENTARY INFORMATION: The BLM has examined and found the following described public land suitable for classification for conveyance under the provisions of the R&PP Act, as amended (43 U.S.C. 869 et seq.), and 43 CFR 2740:

Salt Lake Meridian

T. 23 S., R. 19 E.,

Sec. 10;

Sec. 11, SW¼SW¼NE¼, W½NE¼NW¼, NW¼NW¼, S½NW¼, SW¼, SW¼NE¼SE¼, NW¼SE¼, and S½SE¼;

Sec. 14, N½N½;

Sec. 15, N½N½.

The area described contains 1,400 acres more or less, in Grand County.

The area to be conveyed is approximately 1,300 acres. The description and acreage of the area classified within sec. 11 will be revised by survey and approval of a supplemental plat.

The classification is consistent with the BLM Moab Field Office Resource Management Plan, Lands and Realty Decision LAR-5, Appendix G at G.1.4, dated October 31, 2008 and is in the public interest. An environmental assessment will be prepared to analyze the Grand County application and proposed plans of development and management. A conveyance would be subject to the provisions of the R&PP Act, applicable regulations of the Secretary of the Interior, in particular those provisions found at 43 CFR subpart 2743, and the following reservations to the United States:

1. A right-of-way thereon for ditches or canals constructed by the authority of the United States, Act of August 30, 1890 (43 U.S.C. 945);

2. All minerals, together with the right to prospect for, mine, and remove such deposits from the same under applicable law and such regulations as the Secretary of the Interior may prescribe.

A conveyance would also be subject to the following terms and conditions:

1. All valid existing rights;

2. An indemnification clause protecting the United States from claims arising out of the patentee's use, occupancy, or operations on the land;

3. A provision that states that no portion of the land covered by the patent, when issued, shall under any circumstances revert to the United States if such portion has been used for solid waste disposal or for any other purpose that the authorized officer determines may result in the disposal, placement, or release of any hazardous substance (43 CFR 2743.2-1(e)).

Upon publication of this notice in the Federal Register, the lands described above are segregated from all other forms of appropriation under the public land laws, including the general mining laws, except for conveyance under the R&PP Act. This notice will also serve as the 2-year notification to the grazing permittees of a reduction in grazing privilege in the Little Grand and Big Flat Tenmile Allotments.

Classification Comments: Interested parties may submit comments involving the suitability of the land for a shooting facilities complex. Comments on the classification are restricted to whether the land is physically suited for the proposal, whether the use will maximize the future use or uses of the land, whether the use is consistent with local planning and zoning, or whether the use is consistent with State and Federal programs.

Application Comments: Interested parties may submit comments regarding the specific use proposed in the application, or any other factors not directly related to the suitability of the land for a shooting facilities complex.

Before including your address, phone number, e-mail address, or other personal identifying information in your comment, you should be aware that your entire comment—including your personal identifying information—may be made publicly available at any time. While you can ask us in your comment to withhold your personal identifying information from public review, we cannot guarantee that we will be able to do so.

The BLM State Director will review any adverse comments. In the absence of any adverse comments, the classification will become effective on July 12, 2010. The lands will not be available for conveyance until after the classification becomes effective, and completion of the environmental assessment on the application. Conveyance of the lands is also contingent upon approval of a supplemental survey plat for sec. 11.

Authority: 43 CFR 2741.5(h).

Approved: Jeff Rawson,
Associate State Director.

[FR Doc. 2010-11250 Filed 5-11-10; 8:45 am]

BILLING CODE 4310-DQ-P